DEPARTMENT OF COMMERCE

Foreign-Trade Zones Board

[Docket 43-2005]

Review of Foreign-Trade Zone Activity, Foreign-Trade Subzone 43D, Perrigo Company, Battle Creek Michigan, (Ibuprofen-Pharmaceutical Products)

Pursuant to authority under the Foreign-Trade Zones (FTZ) Act, as amended (19 U.S.C. 81a-81u), including Section 81(o)(c), and the regulations of the FTZ Board (15 CFR part 400), to monitor, review, and restrict activity affecting foreign-trade zone merchandise, a review is being initiated of activity related to certain merchandise at Foreign-Trade Subzone 43D, at the pharmaceutical products manufacturing facilities of the Perrigo Company, in the Battle Creek, Michigan, area.

In May 2003, the FTZ Board filed an application from the City of Battle Creek, Michigan, grantee of FTZ 43, requesting special-purpose subzone status with certain manufacturing authority for Perrigo. Subzone 43D was approved by the Foreign-Trade Zones (FTZ) Board on April 13, 2004 (Board Order 1326, 69 FR 21498, 4/21/04). The activity authorized by the FTZ Board included manufacturing over-the-counter pharmaceutical products containing ibuprofen, aspirin and acetaminophen. Subsequent to the issuance of the Board Order, additional information emerged which raised potential issues with respect to some of the ibuprofen-related information presented in the Perrigo application; that application had been among the bases for the FTZ Board's approval of manufacturing at Subzone 43D. The FTZ staff then conducted a preliminary inquiry into the matter and found that the additional information appeared to raise questions that warranted consideration by the FTZ Board.

The FTZ Board's review in this matter will consider whether new information requires modification of the authority granted for Subzone 43D with respect to ibuprofen and products containing ibuprofen. The review will focus primarily on updated information regarding: Perrigo's ibuprofen sourcing patterns and plans, and industry-wide patterns; international competition in finished products containing ibuprofen; potential effects on domestic suppliers; the scope of FTZ benefits for Perrigo; and the net economic effect of Perrigo's use of FTZ procedures with respect to these products.

Public comment is invited from interested parties. Information submitted for the record generally should be in a non-proprietary format. If there is a need to submit business proprietary information, it should be appropriately marked and accompanied by a public version. Submissions (original and 3 copies) shall be addressed to the Board's Executive Secretary at one of the following addresses:

1. Submissions Via Express/Package Delivery Services: Foreign-Trade-Zones Board, U.S. Department of Commerce, Franklin Court Building - Suite 4100W, 1099 14th St. NW, Washington, D.C. 20005; or

2. Submissions Via the U.S. Postal Service: Foreign-Trade-Zones Board, U.S. Department of Commerce, FCB - Suite 4100W, 1401 Constitution Ave. NW, Washington, D.C. 20230.

The closing period for their receipt is November 14, 2005.

Dated: September 8, 2005.
Dennis Puccinelli,
Executive Secretary.

[FR Doc. 05-18353 Filed 9-14-05; 8:45 am]

Billing Code: 3510-DS-S